DEPARTMENT OF HEALTH AND HUMAN SERVICES

Centers for Disease Control and Prevention

[30Day-16-16AMV]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Survey of Musculoskeletal Disorders Prevention Tools/Methods: 10-year Follow-Up—New—National Institute for Occupational Safety and Health, Centers for Disease Control and Prevention (CDC),

Background and Brief Description

The mission of the National Institute for Occupational Safety and Health (NIOSH) is to promote safety and health at work for all people through research and prevention. Under Public Law 91- 596, sections 20 and 22 (Section 20-22, Occupational Safety and Health Act of 1970), NIOSH has the responsibility to conduct research to advance the health and safety of workers. In this capacity, NIOSH proposes to administer a survey of ergonomics professionals as a 10-year follow-up to a survey conducted of U.S. Certified Professional Ergonomists (CPEs) by Dempsey et al. and published in 2005 (A survey of tools and methods used by certified professional ergonomists. Applied Ergonomics, 36, 489-503).

The project is planned to extend the original survey in two ways: (1) The sample will be broadened to include international ergonomics practitioners (in Canada, the United Kingdom, New Zealand, and Australia), and, (2) the queried tools and methods have been updated to reflect new and emerging technologies not included in the original survey.

The purpose of the survey will be unchanged—to gather information on the types of basic tools, direct and observational measurement techniques, and software used in the field by ergonomics practitioners to assess workplace risk factors for musculoskeletal disorders and to evaluate workplace interventions.

The motivation for the original 2005 survey was to better understand the types of tools and methods practitioners use, their opinions of these tools, and to potentially gain an understanding of the constraints or preferences that influence this selection. At the time of the 2005 survey there were many tools reported in the literature, but little information on the extent to which these different tools were used by practitioners.

Similarly, there was little published information on users' experiences with these different tools. There has been considerable interest in the findings and the Dempsey et al. (2005) publication has been widely cited. The program anticipates that a follow-up effort will result in even greater interest as changes in the practice of ergonomics and prevention of soft tissue MSDs can be inferred from comparisons between the two surveys time points.

Since publication of the initial survey findings there has been a proliferation of smart phone/smart device-embedded inertial and acceleration sensors and related “apps” for human motion and activity logging. Little is known about the extent to which ergonomics practitioners are using these newer technologies towards assessing workplace physical activity (and now, workplace inactivity and “sedentarism”) and other job demands. Thus, the survey will provide a contemporary perspective on the scope of use of assessment tools and methods by these professionals.

In summary, this study will update information collected and published in 2005 on the methods and tools used by practicing ergonomists. NIOSH expects to complete data collection in 2017. The professionals who will be surveyed are being asked to volunteer their time. Only certified ergonomics professionals from five countries with specific certification credentials will be eligible and invited to participate. The certification organizations are shown below with an approximation of eligible respondents:

Board of Certification in Professional Ergonomics (BCPE) CPE designation | U.S | 853
European CREE—Centre for Registration of European Ergonomists | United Kingdom | 43
Australian Register of Certified Professional Ergonomists | Australia | 20
New Zealand BCNZE—Board for Certification of New Zealand Ergonomists | New Zealand | 15
Canadian College for the Certification of Professional Ergonomists | Canada | 241

The program has assumed an optimistic 80% response rate to estimate the number of respondents at 938 in the estimation of annualized burden hours.

This project will involve the collection of non-sensitive data via web-based survey questionnaire methods. Survey data relate only to respondents' professional practice within the OS&H discipline of ergonomics and prevention of musculoskeletal disorders. Nonetheless, safeguards will be taken to insure data confidentiality and the dissociation of personally identifying information (PII) from individual questionnaire responses submitted through the web-based survey service. Participants' web-submitted responses will not contain PII in association with their data. Basic demographic information collected over the web, including years' experience and certification in the ergonomics profession, current occupation, expertise specialization, highest academic degree attained, and field of study are non-sensitive information.

The estimated annual burden is 469 hours.

Estimated Annualized Burden Hours
Type of respondents | Form name | Number of respondents | Number of responses per respondent | Average burden per response (in hrs)
Individual (Ergonomics Professional) | Survey of Tools and Methods | 938 | 1 | 0.5

Leroy A. Richardson,
Chief, Information Collection Review Office, Office of Scientific Integrity, Office of the Associate Director for Science, Office of the Director, Centers for Disease Control and Prevention.

[FR Doc. 2016-23074 Filed 9-23-16; 8:45 am]

BILLING CODE 4163-18-P